DEPARTMENT OF ENERGY

Federal Energy Regulatory Commission

Notice of Effectiveness of Exempt Wholesale Generator or Foreign Utility Company Status

August 3, 2006.

Dominion Energy Kewaunee, Inc. (Docket No. EG06-50-000); James A. Goodman, as Receiver for PMCC Calpine New England Investment LLC (Docket No. EG06-52-000); Signal Hill Wichita Falls Power, L.P. (Docket No. EG06-53-000); Empresa Eléctrica de Talca S.A. (Docket No. FC06-4-000); Empresa de Transmisión Electrica Transemel S.A. (Docket No. FC06-5-000); Alcoa Inc. Manicouagan Power Company Alcoa of Australia Limited Alcoa Alumínio S.A. Suriname Aluminum Company L.L.C. (Docket No. FC06-6-000).

Take notice that during the month of July 2006, the status of the above-captioned entities as Exempt Wholesale Generators or Foreign Utility Companies became effective by operation of the Commission's regulations. 18 CFR 366.7(a).

Magalie R. Salas,
Secretary.

[FR Doc. E6-13065 Filed 8-9-06; 8:45 am]

BILLING CODE 6717-01-P